DEPARTMENT OF JUSTICE

Notice of Lodging of Order and Stipulation Among Certain Debtors, United States of America, Pennsylvania, Ohio, Indiana, City of Chicago and Travelers Indemnity Company and Travelers Casualty and Surety Company With Respect to Environmental Claims Under the Comprehensive Environmental Response, Compensation and Liability Act, the Clean Air Act, the Clean Water Act and Other Authorities

Notice is hereby given that, on July 1, 2003, a proposed Order and Stipulation among certain debtors, United States of America, Pennsylvania, Ohio, Indiana, City of Chicago and Travelers Indemnity Company and Travelers Casualty and Surety Company with Respect to Environmental Claims (the Order and Stipulation) in In re: LTV Steel, Inc. (LTV Steel Bankruptcy), Case No. 00-43866 (Bankr. N.D. Ohio), was lodged with the United States Bankruptcy Court for the Northern District of Ohio.

The United States, the Commonwealth of Pennsylvania, the States of Indiana and Ohio and the City of Chicago (collectively, the Governments) jointly asserted claims against LTV Steel under federal and state environmental laws, including claims by the United States in connection with the J&L Landfill in Rochester Hills, Michigan, the Abbey Street/Hickory Woods Subdivision Site in Buffalo, New York; the Grant Calumet River/Indiana Harbor Canal Riparian Site; and the Breslube-Penn Site in Moon Township, Pennsylvania. Pursuant to the Order and Stipulation, LTV Steel will seek approval from the Bankruptcy Court of its entry into a settlement pursuant to which the Governments will receive $14,146,253 from LTV Steel, plus all insurance proceeds, including an additional $15.4 million from one group of insurers and the assignments of certain proceeds to which the Debtors would be entitled as a result of settlement discussions with/and or coverage litigation against other insurance carriers.

The Department of Justice will receive for a period of thirty (30) days from the date of this publication comments relating to the Order and Stipulation. Comments should be addressed to the Assistant Attorney General, Environmental and Natural Resources Division, Post Office Box 7611, United States Department of Justice, Washington, DC 20044-7611, and should refer to the LTV Steel Bankruptcy, D.J. Ref. Numbers 90-11-3-160/1 & 90-11-3-160/2.

The Order and Stipulation may be examined at the Office of the United States Attorney, Northern District of Ohio, United States Courthouse, 801 West Superior Avenue—Suite 400, Cleveland, Ohio 44113, and at the office of the United States Environmental Protection Agency in Region II, 290 Broadway, New York, New York 10007 (call George Shanahan at 212-637-3171 to arrange to examine the Order and Stipulation); Region III, 1650 Arch Street, Philadelphia, Pennsylvania 19103 (call Harry Steinmetz at 215-814-3161 to arrange to examine the Order and Stipulation); and Region V, Records Center, 7th Floor, 77 W. Jackson Blvd., Chicago, Illinois 60604 (M-F, between 8 a.m.-4 p.m. CST). During the public comment period, the Order and Stipulation may also be examined on the following Department of Justice Web site, http://www.usdoj.gov/enrd/open.html. A copy of the Order and Stipulation may also be obtained by mail from the Consent Decree Library, Post Office Box 7611, U.S. Department of Justice, Washington, DC 20044-7611 or by faxing or e-mailing a request to Tonia Fleetwood (tonia.fleetwood@usdoj.gov), fax no. 202-514-0097, phone confirmation number 202-514-1547. In requesting a copy from the Consent Decree Library, please enclose a check payable to the United States Treasury in the amount of either $37.75 (25 cents per page reproduction cost) for the Order and Stipulation and all Exhibits or $10.25 for the Order and Stipulation only.

Benjamin Fisherow,
Deputy Chief, Environmental Enforcement Section, Environmental and Natural Resources Division.

[FR Doc. 03-17263 Filed 7-8-03; 8:45 am]

BILLING CODE 4410-15-M